ENVIRONMENTAL PROTECTION AGENCY

[EPA-HQ-OAR-2006-0971; FRL-9103-01-OMS]

Information Collection Request Submitted to OMB for Review and Approval; Comment Request; National Volatile Organic Compound Emission Standards for Aerosol Coatings (Renewal)

AGENCY: Environmental Protection Agency (EPA).

ACTION: Notice.

SUMMARY: The Environmental Protection Agency (EPA) has submitted an information collection request (ICR), National Volatile Organic Compound Emission Standards for Aerosol Coatings (EPA ICR Number 2289.05, OMB Control Number 2060-0617), to the Office of Management and Budget (OMB) for review and approval in accordance with the Paperwork Reduction Act. This is a proposed extension of the ICR, which is currently approved through November 30, 2021. Public comments were previously requested, via the Federal Register, on April 13, 2021 during a 60-day comment period. This notice allows for an additional 30 days for public comments. A fuller description of the ICR is given below, including its estimated burden and cost to the public. An agency may neither conduct nor sponsor, and a person is not required to respond to, a collection of information unless it displays a currently-valid OMB control number.

DATES: Additional comments may be submitted on or before November 1, 2021.

ADDRESSES: Submit your comments, referencing Docket ID Number EPA-HQ-OAR-2006-0971 online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at: https://www.regulations.gov, or in person at the EPA Docket Center, WJC West Building, Room 3334, 1301 Constitution Ave. NW, Washington, DC. The telephone number for the Docket Center is 202-566-1744. For additional information about EPA's public docket, visit: http://www.epa.gov/dockets.

Abstract: The EPA is required under section 183(e) of the Clean Air Act (CAA) to regulate volatile organic compound (VOC) emissions from the use of consumer and commercial products. Pursuant to CAA section 183(e)(3), the EPA published a list of consumer and commercial products and a schedule for their regulation (60 FR 15264). Aerosol coatings are included on the list, and the standards for such coatings are codified at 40 CFR part 59, subpart E. The reports required under the standards enable the EPA to identify coating formulations manufactured, imported, or distributed in the United States, and to determine the product-weighted reactivity. The ICR addresses the burden for activities conducted in3-year increments after promulgation of the National VOC Emission Standards for Aerosol Coatings. Regulated entities read instructions to determine how they are affected by the rule. They are required to submit initial notifications when an aerosol coating is manufactured and notification of changes in the initial report, to report formulation data and exemptions claimed, and to maintain records. In addition, regulated entities are required to submit triennial reports that include formulation data and VOC usage.

Form Numbers: None.

Respondents/affected entities: M manufacturers, distributors, and importers of aerosol coatings. These regulated entities fall within the North American Industry Classification System (NAICS) Code 32551, “Paint and Coating Manufacturing,” and NAICS Code 325998, “All Other Miscellaneous Chemical Production and Preparation Manufacturing.”

Respondent's obligation to respond: Mandatory (40 CFR part 59, Subpart E).

Estimated number of respondents: 67 (total).

Frequency of response: Annual, triennial.

Total estimated burden: 13,600 hours (per year). Burden is defined at 5 CFR 1320.3(b).

Total estimated cost: $973,000 (per year), which includes zero dollars in annualized capital/startup and/or operation & maintenance costs.

Changes in the Estimates: There is a small increase in burden from the most-recently approved ICR as currently identified in the OMB Inventory of Approved Burdens. This situation is due to two considerations. The regulations have not changed over the past three years and are not anticipated to change over the next three years. The estimated growth rate for this industry is one new respondent per year, leading to a slow increase in burden. We have added 1 hour of burden for existing sources to re-familiarize themselves with the rule each year and adjusted the respondent burden to account for managerial hours as 5% of technical hours and clerical hours as 10% of technical hours for industry respondents, which reflects the EPA standard estimates of burden by labor category.

Courtney Kerwin,
Director, Regulatory Support Division.

[FR Doc. 2021-21286 Filed 9-29-21; 8:45 am]

BILLING CODE 6560-50-P